NATIONAL AERONAUTICS AND SPACE ADMINISTRATION

[Notice (05-020)]

NASA Advisory Council, Financial Audit Committee; Meeting

AGENCY: National Aeronautics and Space Administration.

ACTION: Notice of meeting.

SUMMARY: In accordance with the Federal Advisory Committee Act (FACA), Public Law 92-463, as amended, the National Aeronautics and Space Administration announces a forthcoming meeting of the NASA Advisory Council (NAC), Financial Audit Committee (NFAC).

DATES: Friday, February 25, 2005, 10 a.m. to 12:30 p.m.

ADDRESSES: National Aeronautics and Space Administration, 300 E Street, SW., Room 9H40, Washington, DC 20546.

FOR FURTHER INFORMATION CONTACT: Ms. Ermerdene Lee, Office of the Chief Financial Officer, National Aeronautics and Space Administration, Washington, DC 20546. (202) 358-4529, e-mail elee1@hq.nasa.gov.

SUPPLEMENTARY INFORMATION: The agenda for the meeting includes the following topics:

—Committee Administration

—FACA/NAC Committee Requirements

—NASA 2004 Financial Audit Summary

—NASA Financial Management Improvement Plan

—Operation Clean Opinion

Attendees will be requested to sign a register and to comply with NASA security requirements, including the presentation of a valid picture ID, before receiving an access badge. Foreign nationals attending this meeting will be required to provide the following information no less than 3 working days prior to the meeting: full name; gender; date/place of birth; citizenship; visa/green card information (number, type, expiration date); passport information (number, country, expiration date); employer/affiliation information (name of institution, address, country, phone); title/position of attendee. To expedite admittance, attendees with U.S. citizenship can provide identifying information in advance by contacting Ermerdene Lee via e-mail at elee1@hq.nasa.gov or by telephone at (202) 358-4529.

It is imperative that the meeting be held on this date to accommodate the scheduling priorities of the key participants.

P. Diane Rausch,
Advisory Committee Management Officer, National Aeronautics and Space Administration.

[FR Doc. 05-2448 Filed 2-8-05; 8:45 am]

BILLING CODE 7510-13-P